DEPARTMENT OF ENERGY

Federal Energy Regulatory Commission

Notice of Application Tendered for Filing With the Commission and Soliciting Additional Study Requests

September 22, 2000.

Take notice that the following hydroelectric application has been filed with the Commission and is available for public inspection:

a. Type of Application: New Major License.

b. Project No.: 2031-046.

c. Date Filed: August 30, 2000.

d. Applicant: Springville City.

e. Name of Project: Bartholomew Hydroelectric Project.

f. Location: Northeast of Springville City, within Bartholomew Canyon and on Hobble Creek, in Utah County, Utah. The project is partially situated on federal lands within the Uinta National Forest, administered by the Forest Service.

g. Filed Pursuant to: Federal Power Act, 16 U.S.C. 791(a)-825(r).

h. Applicant Contact: Matthew Cassel at Psomas Consultants, 2825 East Cottonwood Parkway, #120, Salt Lake City, Utah 84121. Telephone 801-270-5777.

i. FERC Contact: Jim Haimes, james.haimes@ferc.fed.us, Telephone 202-219-2780.

j. Deadline for Filing Additional Study Requests: October 30, 2000.

All documents (original and eight copies) should be filed with: David P. Boergers, Secretary, Federal Energy Regulatory Commission, 888 First Street, NE, Washington, DC 20426.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency.

k. Status of Environmental Analysis: This application is not ready for environmental analysis at this time.

l. Description of the Project: Situated in a mountainous, mostly undeveloped area east of Springville City, approximately 60 miles south of Salt Lake City, the subject project does not include a dam or reservoir. Instead, it operates using relatively small quantities of water removed from underground springs or small creeks located at high elevations and then transported downhill via underground penstocks to three powerhouses and a powerhouse addition having a combined installed capacity of 2,000 kilowatts (kW). The project produces an average of approximately 4,653,000 kilowatt-hours of energy per year. Much of the project's generation is produced during the high runoff season each spring. Flows used to generate electricity either are diverted to the licensee's water distribution system for domestic and industrial consumption or are released into Hobble Creek.

The project's generating facility at the highest elevation is Upper Bartholomew powerhouse. Constructed in 1992, it is a 25-foot-long by 17-foot-wide, partially buried, concrete structure containing one turbine with an hydraulic capacity of 10 cubic feet per second (cfs) and a 900-foot head that drives one 200-kW generator. This facility operates using water collected from underground springs located in the left fork Bartholomew Canyon and transported to the powerhouse in a 10-inch-diameter, 55-foot-long, ductile iron pipe to a diversion-head control structure, and then through a 10-inch-diameter, 5,800-foot-long, ductile iron penstock to the powerhouse. Releases from this powerhouse travel through a 20-inch-diameter, 100-foot-long outlet pipe to a surge tank, and then through a 30-inch-diameter, steel pipe to a 1.5 million-gallon-capacity storage tank.

Downhill, at the south end of Bartholomew Canyon, is the project's original generating facility, Lower Bartholomew Powerhouse. Constructed in 1948, this 80-foot-long by 28-foot-wide, brick and masonry structure contains one turbine with an hydraulic capacity of 16 cfs and a 980-foot head. The turbine powers one 500-kW generator. This unit currently operates intermittently with overflows from the licensee's 1.5 million-gallon-capacity water tank, cited above. This water reaches the turbine in a 16-inch-diameter, 25,250-foot-long penstock, and it exits the powerhouse through a 24-inch-diameter, concrete pipe into a diversion canal, and then into the left fork Hobble Creek.

Constructed in 1987, Lower Bartholomew Powerhouse Annex is a brick and masonry addition to the original powerhouse containing one turbine having an hydraulic capacity of 28 cfs and a 980-foot head. The turbine drives one 1,000-kW generator. Power is produced using culinary water released from the licensee's 1.5 million-gallon water tank, cited above, and transported downstream in a 20-inch-diameter, 25,250-foot-long, steel penstock.

Inflows to this water tank are obtained from two sources: Releases from the Upper Bartholomew powerhouse, discussed above; and underground springs located at the upper end of the right fork Bartholomew Canyon. This spring water is collected in buried perforated pipes connected to collection boxes and then transported via a 30-inch-diameter, 4,800-foot-long, concrete pipe to the project's 1.5 million-gallon storage tank. After exiting the turbine, flows are transported through a 24-inch-diameter, steel pipe to the licensee's non-project 2.0 million-gallon Hobble Creek water storage tank for domestic and industrial customers in the Springville area.

The project facility at the lowest elevation is Hobble Creek powerhouse, located in the lower portion of Hobble Creek Canyon. Constructed in 1950, this 35-foot-long by 30-foot-wide, masonry structure contains two turbines having a combined hydraulic capacity of 38 cfs and a 135-foot head. These turbines drive one 300-kW generator. The development currently operates with surface flows diverted from the left fork Hobble Creek by a 5-foot-high, 25-foot-long, concrete diversion structure, and from the right fork Hobble Creek by a 4-foot-high, 30-foot-long, concrete diversion structure. Flows diverted from these creeks are transported in 14-inch-diameter, steel pipes to a concrete flow-equalizing structure, and then through one 30-inch-diameter, 8,500-foot-long, steel penstock to the powerhouse. Releases from the powerhouse are discharged directly into Hobble Creek.

The project also includes the following two transmission facilities: (1) A 5.9-mile-long line, which includes one 1-mile-long, underground segment and a 4.9-mile-long overhead segment, from Upper Bartholomew powerhouse to Hobble Creek powerhouse; and (2) a 6.9-mile-long, 12.47-kilovolt, underground cable from Hobble Creek powerhouse to Springville City's electric distribution system.

Although there are no developed recreational facilities within the boundaries of the subject project, Springville City owns and operates a 200-unit campground and a golf course in the project vicinity. In addition, the Forest Service operates two small campgrounds along the right fork Hobble Creek.

m. Locations of the Application: A copy of the application is available for inspection and reproduction at the Commission's Public Reference Room, Room 2A, located at 888 First Street, NE., Washington, DC 20426, or by calling (202) 208-1371. The application may be viewed on the web at http://www.ferc.fed.us/online/rims.htm (call (202) 208-2222 for assistance). A copy is also available for inspection and reproduction at the address in item h above.

n. With this notice, we are initiating consultation with the State Historic Preservation Officer as required by § 106, National Historic Preservation Act, and the regulations of the Advisory Council on Historic Preservation, 36 CFR 800.4.

o. Under Section 4.32(b)(7) of the Commission's regulations (18 CFR 4.32(b)(7)), if any resource agency, Indian Tribe, or person believes that the applicant should conduct an additional scientific study to form an adequate factual basis for a complete analysis of the application on its merits, they must file a request for the study with the Commission, not later than 60 days after the date the application is filed, and must serve a copy of the request on the applicant.

p. Procedural schedule and final amendments: The application will be processed according to the following milestones, some of which may be combined to expedite processing:

Notice that the application has been accepted for filing;

Notice of NEPA Scoping;

Notice that the application is ready for environmental analysis;

Notice of the availability of the draft NEPA document;

Notice of the availability of the final NEPA document; and

Order issuing the Commission's decision on the application

Final amendments to the application must be filed with the Commission within 30 days of the notice that the application is ready for environmental analysis.

Linwood A. Watson, Jr.,
Acting Secretary.

[FR Doc. 00-24879 Filed 9-27-00; 8:45 am]

BILLING CODE 6717-01-M